ENVIRONMENTAL PROTECTION AGENCY

[FRL-TVPSD-001; FRL-8167-3]

Notice of Approval of Prevention of Significant Deterioration (PSD) Permits for Newmont Nevada Energy Investment, LLC (Nevada Department of Environmental Protection No. AP4911-1349), Hawaii Electric Light Company (Hawaii CSP No.0007-01-C), and Title V Operating Permit for Peabody Western Coal Co. (EPA Region 9 No. NN-OP 99-07)

AGENCY: Environmental Protection Agency (EPA), Region 9.

ACTION: Notice.

SUMMARY: Notice is hereby given that the following permits have been issued:

The Nevada Department of Environmental Protection, acting under authority of a PSD delegation agreement, granted approval to Newmont Nevada Energy Investment, LLC to construct the TS Power Plant, a 200 megawatt pulverized coal-fired boiler plant to be located near Dunphy, NV. The permit became effective on June 4, 2005.

The Hawaii Department of Health, acting under authority of a PSD delegation agreement, granted approval to Hawaii Electric Light Company to construct two 20 MW combustion turbine generators (Keahole Units 4 & 5) at Keahole Generating Station, Keahole, Hawaii. The permit became effective on June 5, 2001.

EPA Region 9, acting under the title V operating permit regulations in 40 CFR part 71, granted approval to Peabody Western Coal Company to operate two contiguous coal mines (Kayenta and Black Mesa) in northeastern Arizona on the reservations of the Navajo Nation and the Hopi Tribe. The permit became effective on July 1, 2004, except for the opacity monitoring conditions, which became effective on March 28, 2005.

FOR FURTHER INFORMATION CONTACT: Copies of the permits are available for public inspection and can be obtained by contacting: Roger Kohn (AIR-3), U.S. Environmental Protection Agency, Region 9, 75 Hawthorne Street, San Francisco, CA 94105. (415) 972-3973. e-mail: kohn.roger@epa.gov.

DATES: The PSD and Part 71 permits are reviewable under Section 307(b)(1) of the Clean Air Act only in the Ninth Circuit Court of Appeals. A petition for review must be filed by July 5, 2006.

Dated: April 26, 2006.
Deborah Jordan,
Director, Air Division, Region 9.

[FR Doc. E6-6860 Filed 5-4-06; 8:45 am]

BILLING CODE 6560-50-P